DEPARTMENT OF ENERGY

Federal Energy Regulatory Commission

[Docket No. CP01-60-000]

Williams Gas Pipelines Central, Inc.; Notice of Request Under Blanket Authorization

January 5, 2001.

Take notice that on December 28, 2000, Williams Gas Pipelines Central, Inc. (Williams), P.O. Box 20008, Owensboro, Kentucky 42304, filed in Docket No. CP01-60-000 a request pursuant to sections 157.205 and 157.211 of the Commission's Regulations (18 CFR 157.205 and 157.211) under the Natural Gas Act (NGA) for authorization to construct and operate delivery point facilities for service to a residential end-user in Johnson County, Kansas, under Williams' blanket certificate issued in Docket No. CP82-479-000, pursuant to section 7 of the NGA, all as more fully set forth in the application which is on file with the Commission and open to public inspection. This filing may be viewed on the web at http://www.ferc.fed.us/online/htm (call 202-208-2000 for assistance).

Williams requests authorization to construct and operate delivery point facilities to serve Mr. Dennis M. Langley, who requires the gas for residential heating and cooling use. It is stated that Williams will use the facilities to transport up to 20 Dt equivalent of natural gas per day on a firm basis for a 10-year term, pursuant to section 284.223 of the Commission's regulations. It is stated further that Mr. Langley may also receive additional volumes on an interruptible basis. Williams estimates the cost of the facilities at $25,664 and states that it would be reimbursed for the cost by Mr. Langley. It is explained that Mr. Langley's natural gas requirements are currently being supplied by Kansas Gas Service, Inc., a local distribution company that is an existing customer of Williams. It is asserted that Williams has sufficient capacity to render the proposed service without detriment or disadvantage to its other existing customers and that Williams' tariff does not prohibit the addition of delivery point facilities. It is further asserted that the proposal will have no significant impact on Williams' peak day and annual deliveries.

Any questions regarding the application may be directed to David N. Roberts, Manager of Certificates and Tariffs, at (270) 688-6712, Williams Gas Pipelines Central, Inc., P.O. Box 20008, Owensboro, Kentucky 42304.

Any person or the Commission's staff may, within 45 days after issuance of the instant notice by the Commission, file pursuant to Rule 214 of the Commission's Procedural Rules (18 CFR 385.214) a motion to intervene or notice of intervention and pursuant to section 157.205 of the Regulations under the NGA (18 CFR 157.205) a protest to the request. Comments and protests may be filed electronically in lieu of paper. See 18 CFR 385.2001(a)(1)(iii) and the instructions on the Commission's website at http://ferc.fed.us/efi/doorbell.htm. If no protest is file within the time allowed therefor, the proposed activity shall be deemed to be authorized effective the day after the time allowed for filing a protest. If a protest is filed and not withdrawn within 30 days after the time allowed for filing a protest, the instant request shall be treated as an application for authorization pursuant to section 7 of the NGA.

David P. Boergers,
Secretary.

[FR Doc. 01-865 Filed 1-10-01; 8:45 am]

BILLING CODE 6717-01-M